DEPARTMENT OF DEFENSE

Defense Acquisition Regulations System

[Docket Number DARS-2015-0018]

48 CFR Parts 205, 206, 208, 210, 213, 215, and 216

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective April 20, 2015.

FOR FURTHER INFORMATION CONTACT: Mr. Manuel Quinones, Defense Acquisition Regulations System, OUSD(AT&L)DPAP(DARS), Room 3B941, 3060 Defense Pentagon, Washington, DC 20301-3060. Telephone 571-372-6088; facsimile 571-372-6094.

SUPPLEMENTARY INFORMATION: This final rule amends the DFARS as follows:

1. Directs contracting officers to additional procedures and guidance by adding references at—

• DFARS 205.205.205-71 to DFARS Procedures, Guidance and Information (PGI) 206.302-1(d);

• DFARS 206.000 to PGI 206.000;

• DFARS 206.302-1(d) to PGI 206.302-1(d);

• DFARS 206.303-2 to PGI 206.303-2(b)(i);

• DFARS 206.304(a)(S-70) to PGI 206.304(a)(S-70);

• DFARS 208.405-6 to PGI 208.405-6;

• DFARS 210.002 to PGI 210.002(e)(ii);

• DFARS 213.104 to PGI 213.104;

• DFARS 213.500-70 to PGI 215.371-2;

• DFARS 213.501 to PGI 206.304(a)(S-70);

• DFARS 215.371-2 to PGI 215.371-2; and

• DFARS 216.505(b)(2) to PGI 216.505(b)(2).

2. Revises paragraph structure of sections 210.002 and 215.371-2.

List of Subjects in 48 CFR Parts 205, 206, 208, 210, 213, 215, and 216

Government procurement.

Manuel Quinones,
Editor, Defense Acquisition Regulations System.

Therefore, 48 CFR parts 205, 206, 208, 210, 213, 215, and 216 are amended as follows:

1. The authority citation for 48 CFR parts 205, 208, 210, 213, 215, and 216 continues to read as follows:

Authority: 41 U.S.C. 1303 and 48 CFR chapter 1.

PART 205—PUBLICIZING CONTRACT ACTIONS

2. Add section 205.205-71 to read as follows:

205.205-71 Only one responsible source.

Follow the procedures at PGI 206.302-1(d) prior to soliciting a proposal without providing for full and open competition under the authority at FAR 6.302-1.

PART 206—COMPETITION REQUIREMENTS

3. Revise the authority citation for 48 CFR part 206 to read as follows:

Authority: 41 U.S.C. 1303 and 48 CFR chapter 1.

4. Add section 206.000 to read as follows:

206.000 Scope of part.

For information on the various approaches that may be used to competitively fulfill DoD requirements, see PGI 206.000.

5. Amend section 206.302-1 by adding paragraph (d) to read as follows:

206.302-1 Only one responsible source and no other supplies or services will satisfy agency requirements.

* * * * *

(d) Limitations. Follow the procedures at PGI 206.302-1(d) prior to soliciting a proposal without providing for full and open competition under this authority.

6. Add section 206.303-2 to read as follows:

206.303-2 Content.

(b)(i) Include the information required by PGI 206.303-2(b)(i) in justifications citing the authority at FAR 6.302-1.

7. Amend section 206.304(a) by adding a new paragraph (S-70) to read as follows:

206.304 Approval of the justification.

(a)(4) * * *

(S-70) For a noncompetitive follow-on acquisition to a previous award for the same supply or service supported by a justification for other than full and open competition citing the authority at FAR 6.302-1, follow the procedures at PGI 206.304(a)(S-70).

PART 208—REQUIRED SOURCES OF SUPPLIES AND SERVICES

8. Add section 208.405-6 to read as follows:

208.405-6 Limiting sources.

For an order or blanket purchase agreement (BPA) exceeding the simplified acquisition threshold that is a follow-on to an order or BPA for the same supply or service previously issued based on a limiting sources justification citing the authority at FAR 8.405-6(a)(1)(i)(B) or (C), follow the procedures at PGI 208.405-6.

PART 210—MARKET RESEARCH

9. Revise section 210.002 to read as follows:

210.002 Procedures.

(e)(i) When contracting for services, see PGI 210.070 for the “Market Research Report Guide for Improving the Tradecraft in Services Acquisition”.

(ii) See PGI 210.002(e)(ii) regarding potential offerors that express an interest in an acquisition.

PART 213—SIMPLIFIED ACQUISITION PROCEDURES

10. Add section 213.104 to read as follows:

213.104 Promoting competition.

For information on the various approaches that may be used to competitively fulfill DoD requirements, see PGI 213.104.

11. Add subpart 213.5 to read as follows:

Subpart 213.5—Test Program for Certain Commercial Items
Sec.
213.500-70 Only one offer.
213.501 Special documentation requirement.

Subpart 213.5—Test Program for Certain Commercial Items

213.500-70 Only one offer.

If only one offer is received in response to a competitive solicitation issued using simplified acquisition procedures authorized under FAR subpart 13.5, follow the procedures at PGI 215.371-2.

213.501 Special documentation requirements.

(a) Sole source (including brand name) acquisitions. For noncompetitive follow-on acquisitions of supplies or services previously awarded on a noncompetitive basis, include the additional documentation required by PGI 206.303-2(b)(i) and follow the procedures at PGI 206.304(a)(S-70).

PART 215—CONTRACTING BY NEGOTIATION

12. Revise 215.371-2 to read as follows:

215.371-2 Promote competition.

Except as provided in sections 215.371-4 and 215.371-5—

(a) If only one offer is received when competitive procedures were used and the solicitation allowed fewer than 30 days for receipt of proposals, the contracting officer shall—

(1) Consult with the requiring activity as to whether the requirements document should be revised in order to promote more competition (see FAR 6.502(b) and 11.002); and

(2) Resolicit, allowing an additional period of at least 30 days for receipt of proposals; and

(b) For competitive solicitations in which more than one potential offeror expressed an interest in an acquisition, but only one offer was ultimately received, follow the procedures at PGI 215.371-2.

PART 216—TYPES OF CONTRACTS

216.505 [Amended]

13. Amend section 216.505 by adding paragraph (b)(2) to read as follows:

216.505 Ordering.

* * * * *

(b)(2) Exceptions to the fair opportunity process. For an order exceeding the simplified acquisition threshold, that is a follow-on to an order previously issued for the same supply or service based on a justification for an exception to fair opportunity citing the authority at FAR 16.505(b)(2)(i)(B) or (C), follow the procedures at PGI 216.505(b)(2).

[FR Doc. 2015-08975 Filed 4-17-15; 8:45 am]

BILLING CODE 5001-06-P